DEPARTMENT OF AGRICULTURE

Food Safety and Inspection Service

[Docket No. FSIS-2006-0007]

Codex Alimentarius Commission: Meeting of the Codex Committee on Residues of Veterinary Drugs in Foods

AGENCY: Office of the Under Secretary for Food Safety, USDA.

ACTION: Notice of public meeting, request for comments.

SUMMARY: The Office of the Under Secretary for Food Safety, United States Department of Agriculture (USDA) and the Center for Veterinary Medicine (CVM), Food and Drug Administration (FDA), are sponsoring a public meeting on Wednesday, April 26, 2006, to provide information and receive public comments on agenda items that will be discussed at the Sixteenth Session of the Codex Committee on Residues in Veterinary Drugs in Foods, which will be held in Cancun, Mexico, May 8-12, 2006. The Under Secretary and CVM recognize the importance of providing interested parties with information about the Codex Committee on Residues of Veterinary Drugs in Foods (CCRVDF) of the Codex Alimentarius Commission and to address items on the Agenda for the 16th Session of the Committee.

DATES: The public meeting is scheduled for Wednesday, April 26, 2006, from 10 a.m. to 1 p.m.

ADDRESSES: The public meeting will be held in Room 1160, South Agriculture Building, 1400 Independence Avenue, SW., Washington, DC 20250. Documents related to the 16th Session of CCRVDF will be accessible via the World Wide Web at the following address: http://www.codexalimentarius.net.

FSIS invites interested persons to submit comments on this notice. Comments may be submitted by any of the following methods:

Federal eRulemaking Portal: This Web site provides the ability to type short comments directly into the comment field on this Web page or attach a file for lengthier comments. Go to http://www.regulations.gov and, in the “Search for Open Regulations” box, select “Food Safety and Inspection Service” from the agency drop-down menu, then click on “Submit.” In the Docket ID column, select the FDMS Docket Number FSIS-2006-0007 to submit or view public comments and to view supporting and related materials available electronically.

Mail, including floppy disks or CD-ROM's, and hand- or courier-delivered items: Send to FSIS Docket Room, Docket Clerk, USDA, Food Safety and Inspection Service (FSIS), 300 12th Street, SW., Room 102, Cotton Annex Building, Washington, DC 20250.

Electronic mail: fsis.regulationscomments@fsis.usda.gov.

All submissions received must include the Agency name and docket number FSIS-2006-0007.

All comments submitted in response to this notice, as well as research and background information used by FSIS in developing this document, will be posted to the regulations.gov Web site. The background information and comments also will be available for public inspection in the FSIS Docket Room at the address listed above between 8:30 a.m. and 4:30 p.m., Monday through Friday.

For Further Information About the 16th Session of CCRVDF Contact: U.S. Delegate, Dr. Steven Vaughn, Director, Office of New Animal Drug Evaluation, Center for Veterinary Medicine, FDA, 7500 Standish Place, Rockville, MD 20855, Phone: (301) 827-1796, Fax: (301) 594-2297. E-mail: svaughn@cvm.fda.gov.

For Further Information About the Public Meeting Contact: Edith E. Kennard, Staff Officer, U.S. Codex Office, FSIS, Room 4861, South Building, 1400 Independence Avenue, SW., Washington, DC 20250, Phone: (202) 720-5261, Fax: (202) 720-3157, E-mail: edith.kennard@fsis.usda.gov.

SUPPLEMENTARY INFORMATION:

Background

The Codex Alimentarius Commission (Codex) was established in 1963 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex.

The Codex Committee on Residues of Veterinary Drugs in Foods was established in 1985 by the 16th Session of the Codex Alimentarius Commission to determine priorities for the consideration of residues of veterinary drugs in foods, to recommend maximum levels of such substances, to develop codes of practice as may be required, and to consider methods of sampling and analysis for the determination of veterinary drug residues in foods. The Committee is chaired by the United States.

Issues To Be Discussed at the Public Meeting

The following items on the agenda for the 16th Session of CCRVDF will be discussed during the public meeting:

• Draft Maximum Residue Limits for Veterinary Drugs at Steps 7, 6, 4 and 3

• Proposed Draft Revised Guidelines for the Establishment of a Regulatory Program for the Control of Veterinary Drug Residues in Foods

• Proposed Draft Revised Part I, II, and III of the Codex Guidelines for the Establishment of a Regulatory Program for the Control of Veterinary Drug Residues in Foods

• Risk Management Methodologies, Including Risk Assessment Policies, in the Codex Committee of Veterinary Drugs in Foods

• Review of Performance-based Criteria for Methods of Analysis

• Consideration of the Priority List of Veterinary Drugs Requiring Evaluation or Re-evaluation

• Report of the Working Group on Residues of Veterinary Drugs without ADI/MRL

Each issue listed will be fully described in documents distributed, or to be distributed, by the U.S. Secretariat to the Meeting. Members of the public may access or request copies of these documents via the World Wide Web at the following address: http://www.codexalimentarius.net.

Public Meeting

At the April 26, 2006 public meeting, draft U.S. positions on these agenda items will be described, discussed, and attendees will have the opportunity to pose questions and offer comments. Written comments may be offered at the meeting or sent to the U.S. Delegate for the 16th Session of CCRVDF, Dr. Steven Vaughn, (see For Further Information About the 16th Session of CCRVDF Contact). Written comments should state that they relate to activities of the 16th Session of the CCRVDF.

Additional Public Notification

Public awareness of all segments of rulemaking and policy development is important. Consequently, in an effort to ensure that minorities, women, and persons with disabilities are aware of this notice, FSIS will announce it on-line through the FSIS Web Page located at http://www.fsis.usda.gov/regulations/2006_Notices_Index/. FSIS also will make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals and other individuals who have asked to be included. The update is available on the FSIS Web page. Through the Listserv and Web page, FSIS is able to provide information to a much broader and more diverse audience. In addition, FSIS offers an electronic mail subscription service that provides an automatic and customized notification when popular pages are updated, including Federal Register publications and related documents. This service is available at http://www.fsis.usda.gov/news_and_events/email_subscription/ and allows FSIS-FAIM customers to sign up for subscription options in eight categories. Options range from recalls to export information to regulations, directives and notices. Customers can add or delete subscriptions themselves and have the option to protect their accounts with passwords.

Done at Washington, DC on April 14, 2006.
F. Edward Scarbrough,
U.S. Manager for Codex Alimentarius.

[FR Doc. E6-5876 Filed 4-18-06; 8:45 am]

BILLING CODE 3410-DM-P